DEPARTMENT OF HEALTH AND HUMAN SERVICES

Administration for Children and Families

[CFDA Numbers: 93.581, 93.587, 93.612]

Notice for Public Comment on Administration for Native Americans' Program Policies and Procedures

AGENCY: Administration for Native Americans (ANA), Administration for Children and Families (ACF), Department of Health and Human Services (HHS).

ACTION: Notice for public comment.

SUMMARY: Pursuant to Section 814 of the Native American Programs Act of 1974 (NAPA), as amended, the ANA is required to provide members of the public an opportunity to comment on proposed changes in interpretive rules and general statements of policy and to give notice of the proposed changes no less than 30 days before such changes become effective. In accordance with notice requirements of NAPA, ANA herein describes proposed interpretive rules and general statements of policy that relate to ANA's funding opportunities in Fiscal Year (FY) 2020. Changes to FY 2020 Funding Opportunity Announcements (FOAs) will be based on the following previously published programs: Environmental Regulatory Enhancement (ERE), HHS-2018-ACF-ANA-NR-1344; Native American Language Preservation and Maintenance—Esther Martinez Immersion (EMI), HHS-2018-ACF-ANA-NB-1343; Native American Language Preservation and Maintenance (P&M), HHS-2018-ACF-ANA-NL-1342; Social and Economic Development Strategies (SEDS), HHS-2018-ACF-ANA-NA-1339; Social and Economic Development Strategies—Alaska (SEDS-AK), HHS-2018-ACF-ANA-NK-1340. In addition, ANA will publish a new FOA, HHS-2020-ACF-ANA-NN-1837, which will be titled Social and Economic Development Strategies for Growing Organizations (SEDS-GO). More information about SEDS-GO will be published in a separate Federal Register Notice.

DATES: Comments are due by January 27, 2020. If ANA does not receive any significant comments within the 30 day comment period, ANA will proceed with the proposed changes in the respective published FOAs. The FOAs will serve as the final notice of these proposed changes.

ADDRESSES: Comments may be submitted to: Carmelia Strickland, Director of Program Operations, Administration for Native Americans, 330 C Street SW, Washington, DC 20201 or via email: ANAComments@acf.hhs.gov.

FOR FURTHER INFORMATION CONTACT: Carmelia Strickland, Director, Division of Program Operations, Administration for Native Americans, 330 C Street SW, Washington, DC 20201. Telephone: (877) 922-9262; Email: ANAComments@acf.hhs.gov.

SUPPLEMENTARY INFORMATION: Section 814 of NAPA, as amended, (42 U.S.C. 2992b-1) incorporates provisions of the Administrative Procedure Act that require ANA to provide notice of its proposed interpretive rules and statements of policy and to seek public comment on such proposals. This notice serves to fulfill the statutory notice and public comment requirement. ANA voluntarily includes rules of practice and procedures in this notice in an effort to be transparent. The proposed interpretive rules, statements of policy, and rules of ANA practice and procedure reflected in clarifications, modifications, and new text will appear in the six FY 2020 FOAs: ERE, EMI, P&M, SEDS, SEDS-AK, and SEDS-GO.

ANA's past FOAs can be accessed at: http://www.acf.hhs.gov/grants/open/foa/office/ana or http://www.acf.hhs.gov/grants/open/foa/. Synopses and application forms will be available on https://www.grants.gov.

A. Interpretive rules, statements of policy, procedures, and practice. The proposals below reflect ANA's proposed changes in rules, policy, or procedure which will take effect in the FY 2020 FOAs.

1. Making the ANA grant application process easier—To address applicant feedback about applying for an ANA grant, the proposed changes will be made to simplify the process to the extent possible for eligible applicants by (i.) exempting ANA applications from the ACF two-file requirement, (ii.) changing how to upload the Objective Work Plan (OWP) and (iii.) providing staggered application deadlines.

i. ANA proposes to exempt applicants from the ACF standard two-file upload requirement when applying to all FY 2020 ANA FOAs in order to reduce the technical expertise and software required to combine multiple documents and files into only two-files. The 150 page limit remains in effect.

ii. ANA proposes to make the OWP form an “Optional” form in the application packages for each FOA. This technical change will allow applicants to submit the OWP form available in ANA's Application Toolkit or on Grants.gov. ANA's OWP form is available on the Grants.gov website as well as in the ANA Application Toolkit, which can be found on the ANA website. Although the form will still be required as part of a complete application, this change will help applicants to submit the form in whatever version they utilized to prepare the application rather than prescribing the use of the Grants.gov version.

iii. Finally, ANA proposes to publish the FOAs for EMI, P&M, and ERE first and then allow a two week period before the SEDS and SEDS-AK are published. The SEDS-GO FOAs may be published with the other SEDS FOAs or at a later date. Therefore, the application submission deadlines will also be staggered accordingly. ANA's intent for making these changes is to make applying for ANA funding easier for our Native communities and more accessible to ANA's eligible applicants.

2. Application Requirements and Evaluation Criteria Scores—Sections 803 and 806 of NAPA, 42 U.S.C. 2991b; 2991d-1. In FY 2018, ANA made substantial revisions to the application requirements and evaluation criteria included in our FOAs. The purpose of the revisions was to shift from a deficit-based to a strengths-based approach for application planning and development, as well as to emphasize a community-based approach to project planning and implementation. ANA stands behind the revisions made in FY 2018 and does not plan to change the information being requested. However, during the panel review process, ANA received feedback that the evaluation criteria was difficult to understand and redundant. Additionally, the ACF Uniform Project Description, which is the template used to prepare all ACF FOAs in accordance with the Paperwork Reduction Act (44 U.S.C. 3501-3521) was updated last year. To remain consist with our Application requirements and structure, ANA will move the ANA Project Framework, which was originally under Expected Outcomes, into the Approach section. ANA proposes the following Evaluation criteria scores for FY 2020:

Approach for a maximum of 76 points, to consist of: The ANA Project Framework: Long Term Community Goal (2 points), Current Community Condition (3 points), Project Goal (3 points), Objectives (6 points) Outcomes and Indicators (6 points), Outputs (4 points); Outcome Tracker and Outcome Tracking Strategy (7 points); Community-Based Strategy (10 points); Readiness and Implementation Strategy (20 points); and the Objective Work Plan (OWP) (15 points).

Organizational Capacity (12 points), to also consist of: Personnel and Partnerships.

Budget and Budget Justification for a maximum of 12 points, to consist of: Line Item Budget (4 points) and the narrative Budget Justification (8 points).

These changes are meant to streamline the information required for a successful grant application and provide smaller point allotments in order to make ANA's evaluation criterion more approachable. In addition, it is intended to provide greater guidance to panel reviewers on how to allocate scores.

3. Changes to the SEDS-FOA: Commissioner priorities and bonus points—Sections 803 and 803B of NAPA, 42 U.S.C. 2991b; 2991b-2. ANA Commissioner Jean Hovland has identified several priority areas that she would like to potentially fund through the SEDS program. Therefore, 5 bonus points will be available for applications that address one of the following priority areas: Elders, Veterans, First Responders, Murdered and Missing Indigenous Women (MMIW), and/or Human Trafficking. Applications that address one of more of these priorities areas should be reflected in the project goal, all objectives, indicator(s), and target population (either as participants or beneficiaries). Reviewers will provide 5 points if all elements are included in the application to address one or more priority areas. In addition, the program areas of interest will be expanded to include opportunity zones under economic competitiveness, and smoking and vaping under substance abuse prevention.

4. Changes to SEDS-AK FOA—Section 803 of NAPA, 42 U.S.C. 2991b. ANA plans to modify the description of program purpose for the SEDS-AK FOA to expand the program areas of interest beyond governance. In addition, ANA wants to provide a competitive advantage for smaller Alaska Native villages or organizations that have never received ANA funding. Therefore, the FOA will state that reviewers may add up to 10 bonus points in the scoring criteria if an eligible entity that has never received an ANA award. ANA staff will confirm during the objective review process whether or not an applicant organization for SEDS-AK has received a past ANA award.

a. Changes to EMI FOA—Section 803C of NAPA, 42 U.S.C. 2991b-3. In accordance with 42 U.S.C. 2991b-3(c)(7), applicants for an EMI grant must provide a certification that the organization has not less than 3 years of experience in operating and administering a Native American language survival school, a Native American language nest, or any other educational program in which instruction is conducted in a Native American language. Previously, this requirement only applied to Native American language survival schools. ANA will now require all applicants for EMI to provide a certification of operation of not less than 3 years.

b. Clarification to ERE FOA—Section 803 of NAPA, 42 U.S.C. 2991b.

i. Section 803(d)(3) of NAPA (42 U.S.C. 2991b(d)(3)) permits Federal funds to be used as cost sharing or matching funds for an ERE project, as long as they are not provided from other ANA grants. Therefore, ANA will add this clarification in the ERE FOA. Before using Federal grant funds as matching funds, grantees must make sure that the authorizing statute for the matching Federal grant funds specifically allows its grant funds to be used as cost share or matching funds.

ii. ANA will also permit entities to apply for ERE grants even if they do not own land. There is no requirement within the provisions for ERE under NAPA that require the eligible entity to own land. Applications will be evaluated in accordance with the evaluation criteria in the FOA, including ensuring the purpose of the ERE program will be met.

Statutory Authority: Section 814 of the Native American Programs Act of 1974 (NAPA), as amended.

Jean Hovland,
Commissioner, Administration for Native Americans, Administration for Children and Families.

[FR Doc. 2019-27916 Filed 12-26-19; 8:45 am]

BILLING CODE 4184-34-P